ENVIRONMENTAL PROTECTION AGENCY

[ER-FRL-6683-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060298, ERP No. D-AFS-J61109-CO, Arapahoe Basin 2006 Improvement Plan, Enhancing the Recreational Experience Addressing Lifts, Parking, and Terrain Network, Montezuma Bowl, Implementation, U.S. Army COE 404 Permit, White River National Forest, Summit County, CO

Summary: EPA expressed environmental concerns about adverse impacts to high-altitude wetlands and the lack of sufficient information to determine whether less damaging alternatives might exist.

Rating EC2

EIS No. 20060360, ERP No. D-AFS-L65522-WA, Gifford-Pinchot National Forest and Columbia River Gorge National Scenic Area (Washington Portion) Site-Specific Invasive Plant Treatment Project, Implementation, Skamania, Cowlitz, Lewis, Clark, Klickitat Counties, WA

Summary: EPA does not object to the proposed project.

Rating LO

EIS No. 20060427, ERP No. D-BLM-G65101-NM, Special Status Species Resource Management Plan Amendment, Managing Public Land and Federal Minerals in Portions of Chaves, Eddy, Lea and Roosevelt Counties, NM

Summary: EPA does not object to the proposed action as described in the DEIS.

Rating LO

EIS No. 20060430, ERP No. D-BLM-J65473-WY, Eagle Butte West Coal Lease Application, Issuance of Lease for a Tract of Federal Coal, Wyoming Powder River Basin, Campbell County, WY

Summary: EPA expressed environmental and human health concerns about the potential for cumulative air quality impacts to exceed NAAQS thresholds for PM10. In addition, we have concerns about the proximity of the mining operation to homes and an elementary school. EPA recommended the FEIS include an implementation plan for mitigation and monitoring measures to minimize exposure to particulates and NO2 for children at the elementary school.

Rating EC2

EIS No. 20060457, ERP No. D-COE-G32060-TX, Brazos Harbor Navigation District Project, Proposed Port Freeport Channel Widening to the Entrance and Jetty Reach of the Freeport Harbor Jetty Channel and Entrance, Brazoria County, TX

Summary: EPA does not object to the implementation of the preferred alternative.

Rating LO

EIS No. 20060434, ERP No. DS-AFS7-L65508-AK, Kenai Winter Access Project, Updated Information on New Alternative, Develop a Winter Access Management Plan for 2006/2007 Winter Season, Implementation, Seward Ranger District, Chugach National Forest, Located on the Kenai Peninsula in South Central, AK

Summary: EPA has no additional comments on the Supplement to the Draft EIS.

Rating LO

Final EISs

EIS No. 20060466, ERP No. F-BLM-J01080-WY, Pit 14 Coal Lease-by-Application Project, Black Butte Coal Mine, Surface Mining Operations, Federal Coal Lease Application WYW160394, Sweetwater County, WY

Summary: The Final EIS adequately addressed EPA's concerns about moving the coal hopper and quantifying the mercury content of Black Butte coal in relation to other WY and U.S. coal. While mitigation strategies for the control of fugitive dust from mining operations and roads were discussed, we encourage the use of adaptive management to further reduce fugitive dust.

EIS No. 20060497, ERP No. F-FRC-E03015-MS, Clean Energy Liquefied Natural Gas (LNG) Import Terminal and Natural Gas Pipeline Facilities, Construction and Operation, U.S. Army COE Section 10 and 404 Permits (FERC/EIS-0192D), Port of Pascagoula, Jackson County, MS

Summary: EPA expressed environmental concerns about potential impacts to air quality, and recommended additional analyses that fully considers all existing and proposed air emission sources in the air quality modeling, as well as the Breton Class I area visibility study. EPA also recommended that additional analyses regarding thermal radiation and flammable vapor hazard scenarios be provided to more clearly demonstrate the conclusion of insignificant risk.

EIS No. 20060519, ERP No. F-AFS-J65444-MT, Gallatin National Forest, Proposed Travel Management Plan, Implementation, Forest Land and Resource Management, Madison, Gallatin, Park, Meagher, Sweetgrass and Carbon Counties, MT

Summary: EPA continues to express environmental concerns about potential effects to water quality, fisheries, wildlife and other resources from roads and motorized uses.

EIS No. 20060529, ERP No. F-AFS-L65517-0R, Maury Mountains Allotment Management Plan, To Implement or Eliminate Livestock Grazing in Six Allotments in the Maury Mountains of the Ochoco National Forest, Prineville, OR

Summary: No formal comment letter was sent to the preparing agency.

Dated: January 23, 2007.
Robert W. Hargrove,
Director, NEPA Compliance Division, Office of Federal Activities.

[FR Doc. E7-1236 Filed 1-25-07; 8:45 am]

BILLING CODE 6560-50-P